DEPARTMENT OF LABOR

Office of the Secretary

USDOL Extends the Due Date for Comments on Labor Capacity-Building Efforts Under the Dominican Republic-Central America-United States Free Trade Agreement

AGENCIES: Office of the Secretary of Labor.

ACTION: Change of due date.

SUMMARY: On October 28, 2014, the U.S. Department of Labor issued a Federal Register Notice (79 FR 64217) asking the public for comments to assist the Secretary of Labor in preparing a report required by the U.S. Congress. The report will include a summary of public comments on: (a) The labor capacity-building efforts under Chapter 16 (“the Labor Chapter”) and Annex 16.5 of the Dominican Republic-Central America-United States Free Trade Agreement (“CAFTA-DR”); and (b) efforts made by the CAFTA-DR countries to implement the labor obligations under the Labor Chapter and recommendations contained in a paper entitled, “The Labor Dimension in Central America and the Dominican Republic—Building on Progress: Strengthening Compliance and Enhancing Capacity” (the “White Paper”). The comment period established for responses to this request was to end at 5:00 p.m. EST on November 10, 2014. The comment period is being extended to 5:00 p.m. EST, on November 28, 2014.

SUPPLEMENTARY INFORMATION: For information on the nature of comments being requested and requirements for making submissions, please refer to the guidance provided in 79 FR 64217, published on October 28, 2014. This Federal Register Notice can be accessed at the United States Government's Federal Register Web site at: https://www.federalregister.gov/articles/2014/10/28/2014-25535/request-for-comments-on-labor-capacity-building-efforts-under-the-dominican-republic-central.

FOR FURTHER INFORMATION CONTACT: Mr. James Rude, Office of Trade and Labor Affairs, Bureau of International Labor Affairs, U.S. Department of Labor, 200 Constitution Avenue NW., Room S-5303, Washington, DC 20210. Email: Rude.James@DOL.Gov, Telephone: (202) 693-4806.

Signed at Washington, DC, the 10th day of November 2014.
Carol Pier,
Deputy Undersecretary for International Affairs, U.S. Department of Labor.

ILAB Electronic Clearance Form
[FRN announcing extension of public comment period for CAFTA-DR report]
| Office and name | Review date | Response
Drafter: | Rude | 11/6 | Clear with revisions
Clearers: | ILAB/OTLA—Josh Kagan | 11/5/14 | Clear with attached revisions.
| ILAB/OTLA—Sue Hahn | 11/5/14 | Clear. Agree with Josh's changes.
| SOL—Matt Levin |  | Choose an item.
| ILAB/OTLA—Greg Schoepfle | 11/6/14 | Clear.
Approver: | ILAB/ODUS—Thomas Richards | 11/6/14 | Clear.
Info: | ILAB/OIR—Chantenia Gay |  |
| ILAB/OCFT—Eileen Muiraggui |  |

File path: ..\2014-11-05 Revised FRN for CAFTA-DR report.

[FR Doc. 2014-27049 Filed 11-14-14; 8:45 am]

BILLING CODE 4510-28-P